DEPARTMENT OF COMMERCE

National Institute of Standards and Technology

Announcing a Meeting of the Computer System Security And Privacy Advisory Board

AGENCY: National Institute of Standards and Technology, Commerce.

ACTION: Notice of meeting.

SUMMARY: Pursuant to the Federal Advisory Committee Act, 5 U.S.C. App., notice is hereby given that the Computer System Security and Privacy Advisory Board (CSSPAB) will meet Tuesday, March 5, 2002, from 9 a.m. until 5 p.m., Wednesday, March 6, 2002, from 9 a.m. until 5 p.m. and on Thursday, March 7, 2002, from 9 a.m. until 5 p.m. All sessions will be open to the public. The Advisory Board was established by the Computer Security Act of 1987 (Pub. L. 100-235) to advise the Secretary of Commerce and the Director of NIST on security and privacy issues pertaining to federal computer systems. Details regarding the Board's activities are available at http://csrc.nist.gov/csspab/.

DATES: The meetings will be held on March 5, 6, and 7, 2002, from 9 a.m. until 5 p.m.

ADDRESSES: The meetings will take place at the General Services Administration, 7th and D Streets, SW., Room 5700, in Washington, DC.

Agenda

—Welcome and Overview

—Session on Minimally-Accepted Security Controls

—Updates on Recent Computer Security Legislation

—Update by OMB on Privacy and Security Issues

—Briefing on Activities Related to Executive Order on Critical Infrastructure Protection

—Briefing on U.S. Postal Service Electronic Postmark Products and Certificate Authority Effort

—Review of CSSPAB Work Plan Priorities for 2002 and Beyond

—Public Participation

—Agenda Development for June 2002 CSSPAB meeting

—Wrap-Up

Note that agenda items may change without notice because of possible unexpected schedule conflicts of presenters.

Public Participation

The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the CSSPAB Secretariat, Information Technology Laboratory, 100 Bureau Drive, Stop 8930, National Institute of Standards and Technology, Gaithersburg, MD 20899-8930. It would be appreciated if 35 copies of written material were submitted for distribution to the Board and attendees no later than March 1, 2002. Approximately 15 seats will be available for the public and media.

FOR FURTHER INFORMATION CONTACT: Dr. Fran Nielsen, Board Secretariat, Information Technology Laboratory, National Institute of Standards and Technology, 100 Bureau Drive, Stop 8930, Gaithersburg, MD 20899-8930, telephone: (301) 975-3669.

Dated: February 14, 2002.
Karen H. Brown,
Acting Director, NIST.

[FR Doc. 02-4075 Filed 2-19-02; 8:45 am]

BILLING CODE 3510-CN-P